DEPARTMENT OF TRANSPORTATION

National Highway Traffic Safety Administration

[Docket No. NHTSA-2004-17436; Notice 2]

Kia Motor Corporation; Grant of Petition for Decision of Inconsequential Noncompliance

Kia Motor Corporation (Kia) has determined that the rims on certain vehicles that it produced in 2001 through 2003 do not comply with S5.2(a) and S5.2(c) of 49 CFR 571.120, Federal Motor Vehicle Safety Standard (FMVSS) No. 120, “Tire selection and rims for motor vehicles other than passenger cars.” Pursuant to 49 U.S.C. 30118(d) and 30120(h), Kia has petitioned for an exemption from the notification and remedy requirements of 49 U.S.C. chapter 301 on the basis that this noncompliance is inconsequential to motor vehicle safety. Notice of receipt of Kia's petition was published with a 30-day comment period on April 20, 2004 in the Federal Register (69 FR 21187). NHTSA received no comments.

S5.2 of FMVSS No. 120 requires that each rim be marked with certain information on the weather side, including S5.2(a): a designation which indicates the source of the rim's published nominal dimensions, and S5.2(c): the symbol DOT. Kia produced approximately 69,160 model year 2002 and 2003 Sedona 4-door multipurpose passenger vehicles between May 1, 2001 and October 2, 2003, and 47,314 model year 2003 and 2004 Sorento 4-door multipurpose passenger vehicles, all with rims that do not contain the markings required by S5.2(a) and S5.2(c).

According to Kia, the affected rims are 6JJ × 15″ (Sedona) aluminum alloy and 7JJ × 16″ (Sorento), which are commonly available and utilized in the United States. The rims have the correct specification for mounting the 215/70R15 tires specified for all Sedona models and the P245/70R16 tires specified for all Sorento models, and are capable of supporting the GVWR of the vehicle. Kia states that no accidents or injuries have occurred, and no customer complaints have been received related to the lack of the markings or any problem that may have resulted from the lack of the markings. Kia further states that the missing markings do not affect the performance of the wheels or the tire and wheel assemblies.

NHTSA agrees that the noncompliance is inconsequential to motor vehicle safety. The rims are marked in compliance with S5.2(b) rim size designation; S5.2(d) manufacturer identification; and S5.2(e) month, day and year or month and year of manufacture. The rims are also marked with the Kia part number. The tire size is marked on the tire sidewalls, and the owner's manual and tire inflation pressure label contain the appropriate tire size to be installed on the original equipment rims. Therefore, there is little likelihood of a tire and rim mismatch as a result of the missing rim markings. With regard to the omission of the DOT symbol, the agency regards the noncompliance with paragraph S5.2(c) as a failure to comply with the certification requirements of 49 U.S.C. 30115, and not a compliance failure requiring notification and remedy.

In consideration of the foregoing, NHTSA has decided that the petitioner has met its burden of persuasion that the noncompliance described is inconsequential to motor vehicle safety. Accordingly, Kia's petition is granted and the petitioner is exempted from the obligation of providing notification of, and a remedy for, the noncompliance.

Authority: (49 U.S.C. 30118, 30120; delegations of authority at CFR 1.50 and 501.8).

Issued on: June 29, 2004.
Kenneth N. Weinstein,
Associate Administrator for Enforcement.

[FR Doc. 04-15277 Filed 7-6-04; 8:45 am]

BILLING CODE 4910-59-P